DEPARTMENT OF TRANSPORTATION

Surface Transportation Board

[STB Finance Docket No. 34936]

Port of Moses Lake—Construction Exemption—Moses Lake, WA [STB Finance Docket No. 34936 (Sub-No. 1)]; Port of Moses Lake—Acquisition Exemption—Moses Lake, WA

AGENCY: Surface Transportation Board, Department of Transportation.

ACTION: Notice of exemption.

SUMMARY: Subject to a Programmatic Agreement negotiated by the parties and environmental mitigation measures, the Board is granting exemptions under 49 U.S.C. 10502 from the prior approval requirements of 49 U.S.C. 10901 for the Port of Moses Lake (Port) in STB Finance Docket No. 34936 to construct two segments of rail line in Moses Lake, WA, one between the community of Wheeler and Parker Horn at the mouth of Crab Creek and another between Columbia Basin Railroad Company, Inc. (CBRW) trackage and the east side of the Grant County International Airport, and in STB Finance Docket No. 34936 (Sub-No. 1) to acquire a segment of rail line from CBRW that runs approximately from Parker Horn near Stratford Road to near the Grant County International Airport, which would connect the newly constructed segments. The Port plans to rehabilitate and upgrade this line segment, including the upgrade of two signalized grade crossings. The Port estimates the total mileage of its construction and acquisition proposals to be approximately 11.5 miles in length.

DATES: The exemption will be effective on September 11, 2009. Petitions to reopen must be filed by September 16, 2009.

ADDRESSES: An original and 10 copies of all pleadings, referring to STB Finance Docket No. 34936 and STB Finance Docket No. 34936 (Sub-No. 1), must be filed with the Surface Transportation Board, 395 E Street, SW., Washington, DC 20423-0001. In addition, one copy of all pleadings must be served on petitioner's representative: Adrian L. Steel, Jr., Mayer Brown LLP, 1909 K Street, NW., Washington, DC 20006.

FOR FURTHER INFORMATION CONTACT: Joseph H. Dettmar, (202) 245-0395. Assistance for the hearing impaired is available through the Federal Information Relay Service (FIRS) at 1-800-877-8339.

SUPPLEMENTARY INFORMATION: Additional information is contained in the Board's decision. Board decisions and notices are available on our Web site at http://www.stb.dot.gov.

Decided: August 21, 2009.
By the Board, Chairman Elliott, Vice Chairman Nottingham, and Commissioner Mulvey.
Jeffrey Herzig,
Clearance Clerk.

[FR Doc. E9-20666 Filed 8-26-09; 8:45 am]

BILLING CODE 4915-01-P